FEDERAL COMMUNICATIONS COMMISSION

47 CFR Part 73

[DA 03-52; MB Docket No. 03-8; RM-10625]

Radio Broadcasting Services; Saluda and Irmo, South Carolina

AGENCY: Federal Communications Commission.

ACTION: Proposed rule.

SUMMARY: This document requests comments on a petition for rule making filed by Breckenridge Communications, Inc. (“Petitioner”), licensee of Station WJES-FM, Channel 221A, Saluda, South Carolina. Petitioner proposes to upgrade Station WJES-FM from Channel 221A to 221C3, change Station WJES-FM's community of license from Saluda to Irmo, South Carolina, and provide Irmo with its first local aural transmission service. Petitioner has submitted a preclusion study demonstrating that upgrading Station WJES-FM from Channel 221A to 221C3 and reallotting the station to Irmo, South Carolina, would not preclude the establishment of any new or upgraded noncommercial educational station on Channels 218, 219, or 220. The coordinates for requested Channel 221C3 at Irmo, South Carolina, are 34-09-00 NL and 81-13-00 WL, with a site restriction of 7.8 kilometers (4.9 miles) northwest of Irmo.

Petitioner's reallotment proposal complies with the provisions of section 1.420(i) of the Commission's rules, and therefore, the Commission will not accept competing expressions of interest in the use of Channel 221C3 at Irmo, South Carolina, or require the petitioner to demonstrate the availability of an additional equivalent class channel.

DATES: Comments must be filed on or before March 10, 2003, and reply comments on or before March 25, 2003.

ADDRESSES: Secretary, Federal Communications Commission, 445 12th Street, SW., Room TW-A325, Washington, DC 20554. In addition to filing comments with the FCC, interested parties should serve the petitioner's counsel, as follows: Matthew H. McCormick, Esq, Reddy, Begley & McCormick, LLP; 2175 K Street, NW., Suite 350; Washington, DC 20037-1845.

FOR FURTHER INFORMATION CONTACT: R. Barthen Gorman, Media Bureau, (202) 418-2180.

SUPPLEMENTARY INFORMATION: This is a synopsis of the Commission's notice of proposed rule making, MB Docket No. 03-8, adopted January 15, 2003, and released January 17, 2003. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a notice of proposed rule making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, and 336.

§ 73.202 [Amended]

2. Section 73.202(b), the Table of FM Allotments under South Carolina, is amended by adding Irmo, Channel 221C3, and removing Saluda, Channel 221A.

Federal Communications Commission.
John A. Karousos,
Assistant Chief, Audio Division, Media Bureau.

[FR Doc. 03-2666 Filed 2-4-03; 8:45 am]

BILLING CODE 6712-01-P